FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011528-019.

Title: Japan-United States Eastbound Freight Conference.

Parties: American President Lines, Ltd., Hapag-Lloyd Container Line GmbH, Kawasaki Kisen Kaisha, Ltd., Mitsui O.S.K. Lines, Ltd., A.P. Moller-Maersk Sealand, Nippon Yusen Kaisha, Orient Overseas Container Line Limited, P&O Nedlloyd B.V., P&O Nedlloyd Limited, Wallenius Wilhelmsen Lines AS.

Synopsis: The proposed modification extends the current suspension of the conference for an additional six months from July 31, 2001, through January 31, 2002.

Agreement No.: 011769.

Title: Atlantsskip ehf/Samskip hf Space Charter Agreement.

Parties: Atlantsskip ehf, Samskip hf.

Synopsis: The proposed agreement authorizes Atlantsskip to provide Samskip with space on its vessels for sailings between Iceland and certain U.S. Atlantic coast ports. Samskip will provide Atlantsskip with certain agency, terminal, and distribution services in Norfolk, Virginia.

Agreement No.: 201065-001.

Title: New Orleans/New Orleans Maritime Contractors Terminal Agreement.

Parties: The Board of Commissioners of the Port of New Orleans New Orleans Maritime Contractors, Inc. d/b/a P&O Ports Louisiana.

Synopsis: The proposed amendment amends the term of the lease and updates the name of one of the parties. The basic term of the agreement will be extended through November 30, 2001.

Dated: June 15, 2001.
By Order of the Federal Maritime Commission.
Theodore A. Zook,
Assistant Secretary.

[FR Doc. 01-15538 Filed 6-19-01; 8:45 am]

BILLING CODE 6730-01-P